DEPARTMENT OF HEALTH AND HUMAN SERVICES

National Institutes of Health

Center for Scientific Review; Amended Notice of Meeting

Notice is hereby given of a change in the meeting of the Host Interactions with Bacterial Pathogens Study Section, June 29, 2006, 8 a.m. to June 30, 2006, 5 p.m. Doubletree Hotel, 8120 Wisconsin Ave., Bethesda, MD 20814 which was published in the Federal Register on May 31, 2006, 71 FR 30946-30948.

The meeting will be held at the Holiday Inn Georgetown, 2101 Wisconsin Avenue, NW., Washington, DC 20007. The meeting dates and time remain the same. The meeting is closed to the public.

Dated: June 8, 2006.
Anna Snouffer,
Acting Director, Office of Federal Advisory Committee Policy.

[FR Doc. 06-5479 Filed 6-15-06; 8:45 am]

BILLING CODE 4140-01-M